DEPARTMENT OF HOMELAND SECURITY

U.S. Customs and Border Protection

[Docket No. USCBP-2010-0001]

Notice of Meeting of the Advisory Committee on Commercial Operations of Customs and Border Protection (COAC)

AGENCY: U.S. Customs and Border Protection, Department of Homeland Security (DHS).

ACTION: Notice of Federal Advisory Committee Meeting.

SUMMARY: The Advisory Committee on Commercial Operations of U.S. Customs and Border Protection (COAC) will meet on February 25, 2010 in Miami, Florida. The meeting will be open to the public.

DATES: COAC will meet Thursday, February 25, 2010 from 9 a.m. to 1 p.m. Please note that the meeting may close early if the committee completes its business. If you plan on attending, please register either online at http://www.cbp.gov/xp/cgov/trade/trade_outreach/coac/, or by e-mail to tradeevents@dhs.gov by close-of-business on Friday, February 19, 2010.

ADDRESSES: The meeting will be held at the Embassy Suites Hotel Miami Airport in the Coconut Grove/Havana Room, 3974 NW South River Drive, Miami, Florida. The public is invited to submit comments and/or written material on any of the identified agenda items as set forth below. Please note that any comments or written materials that are mailed should reach the contact person at the address listed below before February 19, 2010, so that copies of your submitted materials can be distributed to committee members prior to the meeting. Comments must be identified by USCBP-2010-0001 and may be submitted by one of the following methods:

• Federal eRulemaking Portal: http://www.regulations.gov. Follow the instructions for submitting comments.

• E-mail: tradeevents@dhs.gov. Include the docket number in the subject line of the message.

• Fax: 202-325-4290.

• Mail: Ms. Wanda Tate, Office of Trade Relations, U.S. Customs and Border Protection, Department of Homeland Security, 1300 Pennsylvania Avenue, NW., Room 5.2A, Washington, DC 20229.

Instructions: All submissions received must include the words “Department of Homeland Security” and the docket number for this action. Comments received will be posted without alteration at http://www.regulations.gov, including any personal information provided.

Docket: For access to the docket to read background documents or comments received by COAC, go to http://www.regulations.gov.

FOR FURTHER INFORMATION CONTACT: Ms. Wanda Tate, Office of Trade Relations, U.S. Customs and Border Protection, Department of Homeland Security, 1300 Pennsylvania Avenue, NW., Room 5.2A, Washington, DC 20229; tradeevents@dhs.gov; telephone 202-344-1440; facsimile 202-325-4290.

SUPPLEMENTARY INFORMATION: Pursuant to the Federal Advisory Committee Act (5 U.S.C. § App.), DHS hereby announces the meeting of the Advisory Committee on Commercial Operations of Customs and Border Protection (COAC). COAC is tasked with providing advice to the Secretary of Homeland Security, the Secretary of the Treasury, and the Commissioner of U.S. Customs and Border Protection (CBP) on matters pertaining to the commercial operations of CBP and related functions within DHS or the Department of the Treasury.

The fourth meeting of the eleventh term of COAC will be held at the date, time and location specified above. A tentative agenda for the meeting is set forth below.

Tentative Agenda

1. C-TPAT (Customs-Trade Partnership Against Terrorism) Briefing

2. Importer Security Filing (“10+2”)

3. Intellectual Property Rights Enforcement Subcommittee

4. Agriculture Subcommittee

5. Air Cargo Security Subcommittee

6. Automation Subcommittee

7. ACE/ITDS (Automated Commercial Environment/International Trade Data System) Briefing

8. Bond Subcommittee/Bond Centralization Update

9. Trade Facilitation Subcommittee

Procedural

This meeting is open to the public. Please note that the meeting may close early if all business is finished.

Participation in COAC deliberations is limited to committee members, Department of Homeland Security officials, and persons invited to attend the meeting for special presentations.

All visitors must check-in at the Embassy Suites Hotel at the Coconut Grove/Havana Room with CBP officials at the registration desk.

Since seating is limited, all persons attending this meeting should provide notice by close-of-business on Friday, February 19, 2010, by registering online at http://www.cbp.gov/xp/cgov/trade/trade_outreach/coac/ or, alternatively, by contacting Ms. Wanda Tate, Office of Trade Relations, U.S. Customs and Border Protection, Department of Homeland Security, 1300 Pennsylvania Avenue, NW., Washington, DC 20229; tradeevents@dhs.gov; telephone 202-344-1440; facsimile 202-325-4290.

Information on Services for Individuals With Disabilities

For information on facilities or services for individuals with disabilities or to request special assistance at the meeting, contact Ms. Wanda Tate as soon as possible.

Dated: February 3, 2010.
Kimberly Marsho,
Director, Office of Trade Relations, U.S. Customs and Border Protection.

[FR Doc. 2010-2652 Filed 2-5-10; 8:45 am]

BILLING CODE 9111-14-P